DEPARTMENT OF TRANSPORTATION

Federal Aviation Administration

14 CFR Part 39

[Docket No. 2000-CE-23-AD]

RIN 2120-AA64

Airworthiness Directives; Eagle Aircraft (Malaysia) Sdn. Bhd. Model 150B Airplanes

AGENCY: Federal Aviation Administration, DOT.

ACTION: Notice of proposed rulemaking (NPRM).

SUMMARY: This document proposes to adopt a new airworthiness directive (AD) that would apply to certain Eagle Aircraft (Malaysia) Sdn. Bhd. (Eagle) Model 150B airplanes. This proposed AD would require you to modify the canard rear spar and the rear spar attachment bracket. This proposed AD is the result of mandatory continuing airworthiness information (MCAI) issued by the airworthiness authority for Australia. The type design responsibility has been transferred from Australia to Malaysia since the release of the MCAI. The actions specified by this proposed AD are intended to prevent detachment of the rear spar bracket from the canard rear spar, which could result in failure of the canard rear spar. Such failure could lead to loss of control of the airplane.

DATES: The Federal Aviation Administration (FAA) must receive any comments on this proposed rule on or before July 25, 2003.

ADDRESSES: Submit comments to FAA, Central Region, Office of the Regional Counsel, Attention: Rules Docket No. 2000-CE-23-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2000-CE-23-AD” in the subject line. If you send comments electronically as attached electronic files, the files must be formatted in Microsoft Word 97 for Windows or ASCII text.

You may get service information that applies to this proposed AD from Eagle Aircraft (Malaysia) Sdn. Bhd., Composites Technology City, Batu Barendam Airport, 75350 Batu Barendam, Melaka, Malaysia. You may also view this information at the Rules Docket at the address above.

FOR FURTHER INFORMATION CONTACT: Fredrick A. Guerin, Aerospace Engineer, FAA, Los Angeles Aircraft Certification Office, 3960 Paramount Blvd., Lakewood, CA 90712; telephone: (562) 627-5232; facsimile: (562) 627-5210.

SUPPLEMENTARY INFORMATION:

Comments Invited

How Do I Comment on This Proposed AD?

The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2000-CE-23-AD.” We will date stamp and mail the postcard back to you.

Discussion

What Events Have Caused This Proposed AD?

The Civil Aviation Safety Authority (CASA), which is the airworthiness authority for Australia, notified FAA that an unsafe condition may exist on certain Eagle Model 150B airplanes. The CASA reports that the rear spar attachment bracket does not meet required strength specifications for installation on composite airplanes. These strength specifications are necessary to ensure that the rear spar does not detach from the canard rear spar.

The manufacturer has redesigned these parts in order meet required strength specifications.

What Are The Consequences if the Condition Is Not Corrected?

This condition, if not corrected, could result in failure of the canard rear spar. Failure of the canard rear spar could result in failure of the canard and loss of control of the airplane.

Is There Service Information That Applies to This Subject?

Eagle has issued Service Bulletin No. 1074, Revision 1, dated October 19, 1999.

What Are The Provisions of This Service Information?

The service bulletin includes procedures for:

—Trimming the rear spar bracket;

—Smoothing the transition surface for preparation of layups;

—Applying additional plies;

—Replacing the console support bracket and Vinikor cap; and

—Bonding on additional brackets.

What Action Did CASA Take?

The CASA classified this service bulletin as mandatory and issued Australian AD No. X-TS/3, dated December 24, 2000, in order to assure the continued airworthiness of these airplanes in the Australia.

Was This in Accordance With the Bilateral Airworthiness Agreement?

The affected airplanes were manufactured in Australia and are type certificated for operation in the United States under the provisions of section 21.29 of the Federal Aviation Regulations (14 CFR 21.29) and the applicable bilateral airworthiness agreement.

Pursuant to this bilateral airworthiness agreement, CASA had kept FAA informed of the situation described above.

The FAA's Determination and an Explanation of the Provisions of This Proposed AD

What Has FAA Decided?

The FAA has examined the findings of the CASA; reviewed all available information, including the service information referenced above; and determined that:

—The unsafe condition referenced in this document exists or could develop on other Eagle Model 150B airplanes of the same type design that are on the U.S. registry;

—The actions specified in the previously-referenced service information should be accomplished on the affected airplanes; and

—AD action should be taken in order to correct this unsafe condition.

What Would This Proposed AD Require?

This proposed AD would require you to incorporate the actions in the previously-referenced service bulletin.

How Does the Revision to 14 CFR Part 39 Affect This Proposed AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Would This Proposed AD Impact?

We estimate that this proposed AD affects 7 airplanes in the U.S. registry.

What Would Be the Cost Impact of This Proposed AD on Owners/Operators of the Affected Airplanes?

We estimate the following costs to accomplish this proposed modification:

Labor cost | Parts cost | Total cost per airplane | Total cost on U.S. operators
4 workhours × $60 per hour = $240 | $135 per airplane | $240 + $135 = $375 per airplane | $375 × 7 = $2,625.

The proposed modification to the rear spar and the rear spar attachment bracket would require 25 hours for cure and post cure time.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Eagle Aircraft (Malaysia) SDN. BHD.: Docket No. 2000-CE-23-AD.

(a) What airplanes are affected by this AD? This AD affects Model 150B airplanes, serial numbers 001 through 003 and 005 through 030, that are certificated in any category.

(b) Who must comply with this AD? Anyone who wishes to operate any of the airplanes identified in paragraph (a) of this AD must comply with this AD.

(c) What problem does this AD address? The actions specified by this AD are intended to prevent detachment of the rear spar bracket from the canard rear spar, which could result in failure of the canard rear spar. Such failure could lead to loss of control of the airplane.

(d) What actions must I accomplish to address this problem? To address this problem, you must accomplish the following:

Actions | Compliance | Procedures
(1) Modify the canard rear spar by adding additional laminated plies; modifying the rear spar bracket; replacing the existing console support bracket with a new part (part number (P/N) 3100D41-001); modifying the Vinikor cap; and installing an additional support bracket (P/N 581B131-03) and rear spar bracket cap (P/N EO(VAR) 15566-01 or 581B131-02, as applicable) | Within the next 100 hours time-in-service (TIS) after the effective date of this AD, unless already accomplished | Accomplish the modification in accordance with Eagle Service Bulletin 1074, Revision 1, dated October 19, 1999, except as noted in paragraph (d)(2) of this AD
(2) The following instructions in the service bulletin are incorrect and you must use the information provided in this AD. (i) The instructions for installing console support bracket (P/N 3100D41-01) as specified in paragraph 9.6.9 of Eagle Service Bulletin 1074, Revision 1, dated October 19, 1999, are incorrect. The correct instructions are to install a new console support bracket (P/N 3100D41-01) instead of re-installing the removed bracket. The information contained in this AD takes precedence over the manufacturer's service bulletin; and (ii) The rear spar bracket support P/N specified in paragraph 9.7.2 of Eagle Service Bulletin 1074, Revision 1, dated October 19, 1999, is incorrect. The correct P/N is 581B131-03. The information contained in this AD takes precedence over the manufacturer's service bulletin. | As of the effective date of this AD

(e) Can I comply with this AD in any other way? To use an alternative method of compliance or adjust the compliance time, follow the procedures in 14 CFR 39.19. Send these requests to the Manager, Los Angeles Aircraft Certification Office (ACO). For information on any already approved alternative methods of compliance, contact Fredrick A. Guerin, Aerospace Engineer, FAA, Los Angeles Aircraft Certification Office, 3960 Paramount Blvd., Lakewood, CA 90712; telephone: (562) 627-5232; facsimile: (562) 627-5210.

(f) How do I get copies of the documents referenced in this AD? You may get copies of the documents referenced in this AD from Eagle Aircraft (Malaysia) Sdn. Bhd., Composites Technology City, Batu Barendam Airport, 75350 Batu Barendam, Melaka, Malaysia. You may view these documents at FAA, Central Region, Office of the Regional Counsel, 901 Locust, Room 506, Kansas City, Missouri 64106.

Note: The subject of this AD is addressed in Australian AD No. X-TS/3, dated December 24, 2000.

Issued in Kansas City, Missouri, on June 16, 2003.
Michael Gallagher,
Manager, Small Airplane Directorate, Aircraft Certification Service.

[FR Doc. 03-15726 Filed 6-20-03; 8:45 am]

BILLING CODE 4910-13-P